DEPARTMENT OF TRANSPORTATION

Federal Aviation Administration

14 CFR Part 39

[Docket No. FAA-2023-2002; Project Identifier MCAI-2023-00176-E; Amendment 39-22668; AD 2024-02-04]

RIN 2120-AA64

Airworthiness Directives; GE Aviation Czech s.r.o. (Type Certificate Previously Held by WALTER Engines a.s., Walter a.s., and MOTORLET a.s.) Engines

AGENCY: Federal Aviation Administration (FAA), DOT.

ACTION: Final rule.

SUMMARY: The FAA is superseding Airworthiness Directive (AD) 2021-13-07 for all GE Aviation Czech s.r.o. (GEAC) (type certificate previously held by WALTER Engine a.s., Walter a.s., and MOTORLET a.s.) Model M601D-11, M601E-11, M601E-11A, M601E-11AS, M601E-11S, and M601F engines. AD 2021-13-07 required recalculating the life of critical parts and, depending on the results of the recalculation, replacing those critical parts. AD 2021-13-07 also required replacing a certain compressor case. Since the FAA issued AD 2021-13-07, the manufacturer published the airworthiness limitations section (ALS) of the existing engine maintenance manual (EMM), which includes the calculations for the life of critical parts addressed by AD 2021-13-07 and prompted this AD. This AD continues to require the replacement of a certain centrifugal compressor case. This AD also includes an additional part number as an option for the replacement, and limits the applicability of this AD, as specified in a European Union Aviation Safety Agency (EASA) AD, which is incorporated by reference. The FAA is issuing this AD to address the unsafe condition on these products.

DATES: This AD is effective March 28, 2024.

The Director of the Federal Register approved the incorporation by reference of a certain publication listed in this AD as of March 28, 2024.

ADDRESSES:

AD Docket: You may examine the AD docket at regulations.gov under Docket No. FAA-2023-2002; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact EASA, Konrad-Adenauer-Ufer 3, 50668 Cologne, Germany; phone: +49 221 8999 000; email: ADs@easa.europa.eu; website: easa.europa.eu. You may find this material on the EASA website at ad.easa.europa.eu.

• You may view this service information at the FAA, Airworthiness Products Section, Operational Safety Branch, 1200 District Avenue, Burlington, MA 01803. For information on the availability of this material at the FAA, call (817) 222-5110. It is also available at regulations.gov under Docket No. FAA-2023-2002.

FOR FURTHER INFORMATION CONTACT: Barbara Caufield, Aviation Safety Engineer, FAA, 1600 Stewart Avenue, Suite 410, Westbury, NY 11590; phone: (781) 238-7146; email: barbara.caufield@faa.gov.

SUPPLEMENTARY INFORMATION:

Background

The FAA issued a notice of proposed rulemaking (NPRM) to amend 14 CFR part 39 to supersede AD 2021-13-07, Amendment 39-21612 (86 FR 31601, June 15, 2021), (AD 2021-13-07). AD 2021-13-07 applied to all GEAC Model M601D-11, M601E-11, M601E-11A, M601E-11AS, M601E-11S, and M601F engines. AD 2021-13-07 required recalculating the life of critical parts and, depending on the results of the recalculation, replacing critical parts. AD 2021-13-07 also requires replacing a certain compressor case. The FAA issued AD 2021-13-07 to prevent the failure of the engine.

The NPRM published in the Federal Register on October 27, 2023 (88 FR 73778). The NPRM was prompted by EASA AD 2021-0125R1, dated January 30, 2023 (EASA AD 2021-0125R1) (also referred to as the MCAI), issued by EASA, which is the Technical Agent for the Member States of the European Union. The MCAI states that the manufacturer published the ALS, which incorporates certain requirements addressed by EASA Emergency AD 2021-0125-E, and that EASA published EASA AD 2023-0020, dated January 23, 2023 (EASA AD 2023-0020), which requires accomplishment of the actions specified in the ALS. The MCAI limits the applicability to M601E engines with a centrifugal compressor case having part number M601-154.61 installed and removes the requirements that have been incorporated in the ALS.

You may examine the MCAI in the AD docket at regulations.gov under Docket No. FAA-2023-2002.

In the NPRM, the FAA proposed to continue to require the replacement of a certain centrifugal compressor case. In the NPRM, the FAA also proposed to require accomplishing the actions specified in the MCAI.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Related Service Information Under 1 CFR Part 51

The FAA reviewed EASA AD 2021-0125R1, which specifies procedures for replacing the centrifugal compressor case, limits the applicability to certain M601E engines, and removes the requirements that have been incorporated in the ALS.

This service information is reasonably available because the interested parties have access to it through their normal course of business or by the means identified in ADDRESSES.

Differences Between This AD and the MCAI

The MCAI applies to GEAC Model M601E engines, and this AD does not because they do not have an FAA type certificate.

Costs of Compliance

The FAA estimates that this AD affects 13 engines installed on airplanes of U.S. registry.

The FAA estimates the following costs to comply with this AD:

Estimated Costs
Action | Labor cost | Parts cost | Cost per product | Cost on U.S. operators
Recalculate centrifugal compressor case equivalent flight cycles | 1 work-hour × $85 per hour = $85 | $0 | $85 | $1,105
Replace centrifugal compressor case | 10 work-hours × $85 per hour = $850 | 65,000 | 65,850 | 856,050

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-13-07, Amendment 39-21612 (86 FR 31601, June 15, 2021); and

b. Adding the following new airworthiness directive:

2024-02-04 GE Aviation Czech s.r.o. (Type Certificate Previously held by WALTER Engines a.s., Walter a.s., and MOTORLET a.s.): Amendment 39-22668; Docket No. FAA-2023-2002; Project Identifier MCAI-2023-00176-E.

(a) Effective Date

This airworthiness directive (AD) is effective March 28, 2024.

(b) Affected ADs

This AD replaces AD 2021-13-07, Amendment 39-21612 (86 FR 31601, June 15, 2021) (AD 2021-13-07).

(c) Applicability

This AD applies to GE Aviation Czech s.r.o. (type certificate previously held by WALTER Engines a.s., Walter a.s., and MOTORLET a.s.) Model M601E-11, M601E-11A, M601E-11AS, and M601E-11S engines with a centrifugal compressor case having part number (P/N) M601-154.61 installed.

(d) Subject

Joint Aircraft System Component (JASC) Code 7230, Turbine Engine Compressor Section.

(e) Unsafe Condition

This AD was prompted by the manufacturer determining that the life limit of a compressor case having P/N M601-154.61 is not listed in the airworthiness limitations section of the existing engine maintenance manual. The FAA is issuing this AD to prevent the failure of the engine. The unsafe condition, if not addressed, could result in uncontained release of a critical part, damage to the engine, and damage to the airplane.

(f) Compliance

Comply with this AD within the compliance times specified, unless already done.

(g) Required Actions

Except as specified in paragraph (h) of this AD: Perform all required actions within the compliance times specified in, and in accordance with, European Union Aviation Safety Agency (EASA) AD 2021-0125R1, dated January 30, 2023 (EASA AD 2021-0125R1).

(h) Exceptions to EASA AD 2021-0125R1

(1) Where EASA AD 2021-0125R1 refers to May 11, 2021 (the effective date of EASA Emergency AD 2021-0125-E, dated May 7, 2021), this AD requires using June 30, 2021 (the effective date of AD 2021-13-07).

(2) This AD does not adopt the Remarks paragraph of EASA AD 2021-0125R1.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD and email to ANE-AD-AMOC@faa.gov.

(2) Before using any approved AMOC, notify your appropriate principal inspector, or lacking a principal inspector, the manager of the local flight standards district office/certificate holding district office.

(j) Additional Information

For more information about this AD, contact Barbara Caufield, Aviation Safety Engineer, FAA, 1600 Stewart Avenue, Suite 410, Westbury, NY 11590; phone: (781) 238-7146; email: barbara.caufield@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) European Union Aviation Safety Agency (EASA) AD 2021-0125R1, dated January 30, 2023.

(ii) [Reserved]

(3) For EASA AD 2021-0125R1, contact EASA, Konrad-Adenauer-Ufer 3, 50668 Cologne, Germany; phone: +49 221 8999 000; email: ADs@easa.europa.eu; website: easa.europa.eu. You may find this EASA AD on the EASA website at ad.easa.europa.eu.

(4) You may view this service information at FAA, Airworthiness Products Section, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locations or email fr.inspection@nara.gov.

Issued on January 29, 2024.
Victor Wicklund,
Deputy Director, Compliance & Airworthiness Division, Aircraft Certification Service.

[FR Doc. 2024-03562 Filed 2-21-24; 8:45 am]

BILLING CODE 4910-13-P